DEPARTMENT OF THE TREASURY

Internal Revenue Service

Quarterly Publication of Individuals, Who Have Chosen To Expatriate, as Required by Section 6039G

AGENCY: Internal Revenue Service (IRS), Treasury.

ACTION: Notice

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2001.

Last name | First name | Middle name
Aiyasami | Balachander
Annaratone | Marco
Anthony | Jessica | B.
Atkinson | Paul
Barnett | Michael | W.
Berz | Heide | D.
Bissky | Ann | Merice.
Bligh | Thomas | Percival.
Bligh | Marjory | Nigel.
Boelsterli | Daniel | Martin.
Borkowsky | Jeffrey | James.
Bowers | Angela | Cynthia.
Bradburn | George | Arther.
Bradshaw | Philippe | Richard Serge.
Brouwer | Jolanda | C.
Buechner | Linda | L.
Canellopoulos | Takis | P.
Cha | Laura | M.
Cheung | David | Kwokwai.
Cheung | Yollanda
Cleary | John | Michael.
Coates | Phillip | Mathew.
Cogswell | Nancy | Jean Mackenzie.
Compagnon | Marc | Robert.
Costa | Paulo | EDU.
Del Solar | Ines | Z.
Eadie | Robert
Eadie | Andrew | Septimus.
Eadie | Robert
Everling | Friedrich | Gustav.
Felder | Fiona | Catherine.
Fenner | Manuela | Claire.
Fredericks | Eric | Michael.
Frisk | Alan | Eugene.
Froehlich | Margarete
Frohner | John | Edward.
Getty | Christopher | Ronald.
Gibbons | Barry | John.
Gibbons | Judith | Pamela.
Gwerder | Donald | Joseph.
Harley | Olivia | Millicent.
Hendrickson | Donna | Elaine.
Holland | John | Graham Foster.
Hoomani | Michael
Hu | Sheng | Cheng.
Jabban | Mazen
Janeen | Siegfried | Carl.
Jaquet | Phillipe | Emanuel.
Jones | Allen | S.
Juraifani | khalid | Hamad.
Kaat | Dean | Ronald.
Kaercher | Herman | Paul.
Kelly | Reginald | Scott.
Kelly Jr | Charles | George Edward.
Killin | Margaret | Ruth.
Kobayashi | Toshiaki
Krause | Gisela | Bertha Hedwig.
Kuan | Roy
Lam | Hiep | M.
Langbroek | Johnpaul | Honore.
Lawrenz | Lisa | Jean.
Lin | Ching | Hsia.
Lin | Syaru | Shirley.
Lincoln | Thomas | Newton.
Lindgren | Isabell | Herger.
Lo | Grace
Lo | Henry | Hoinai.
Maeland | Arne
Manthos | Elias | Anthony.
McCreight | Pamela | Alecia.
McMahan | Robert | Thomas.
Morin | Elaine
Morton | Paulene
Murdoch | Robert | W.
Murdoch | Nadya
Nah | Clarissa | Mayyen.
Nair | Jon | Nathaniel.
Nair | Madhu | Soodanan.
Nakano | Hiroyasu
Ng | Michael | Chi Man.
O'Brien | Roger | Allen.
Ochoa | Mario | Henry .
Panchaud | Thomas | Christopher.
Parsons | Timothy
Plummer | Doreen | Marie.
Quaiser | Nicholas | Klaus Juergen.
Raudales | David | Alberto.
Reeder Jr | Homer | Thomas.
Reiss | Jonathan | Frederic.
Ricardi Jr | John | Robert.
Robinson | Allan | Hoben.
Robisch | Joseph | A.
Ruesch | Peter
Salim | Rizwan
Salviati | Martha | Guicciardini Corsi.
Sandmeier | Daniel | Marc.
Sands | John | Everette.
Schrade | Anna | Maria.
Schwegmann | Bobby
Serrano | Alejandra | Catalina.
Shemesh | Dalia | Fisher.
Siemer | Thomas | Francis.
Simon | Hans | Erik.
Smith | George | Malcolm.
Staruch | Roslana | Olena.
Swift | Robert | Z.
Thistlewayte | Melissa | Strange.
Thorgevsky | Tamara
Tyler | David | A.
Uhrich | Ervin | Edward.
Upton | Robert
Upton | Carol
Wadsworth | George
Wang | Nancy | Mingfeng.
Wang | Chien | Nan.
Weissmahr | Joseph | A.
Whiddon | Roy | L.
Wilnai | Yael
Wixom | Mi | Son.
Wright | Maurice | Lynn.
Wright | Ian | G.
Yu | James | Shawwu.

Dated: July 12, 2001.
Susan Caruso,
Compliance, Corr Exam, Section III, Phila. Compliance Service Center.

[FR Doc. 01-23716 Filed 9-21-01; 8:45 am]

BILLING CODE 4830-01-P